DEPARTMENT OF THE INTERIOR

National Park Service

[NPS-WASO-NRNHL-DTS#-37949; PPWOCRADI0, PCU00RP14.R50000]

National Register of Historic Places; Notification of Pending Nominations and Related Actions

AGENCY: National Park Service, Interior.

ACTION: Notice.

SUMMARY: The National Park Service is soliciting electronic comments on the significance of properties nominated before May 4, 2024, for listing or related actions in the National Register of Historic Places.

DATES: Comments should be submitted electronically by May 29, 2024.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION:

The properties listed in this notice are being considered for listing or related actions in the National Register of Historic Places. Nominations for their consideration were received by the National Park Service before May 4, 2024. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers

Key: State, County, Property Name, Multiple Name(if applicable), Address/Boundary, City, Vicinity, Reference Number.

ALABAMA

Colbert County

Memphis & Charleston Railroad Bridge, 2106 Ashe Boulevard, Sheffield, SG100010428

Coosa County

Weogufka State Park, CCC Camp Road approx., 1.3 miles southeast of intersection with Lay Dam Road, Weogufka vicinity, SG100010427

DISTRICT OF COLUMBIA

District of Columbia

Old Chinese Legation, 2001 19th Street NW, Washington, SG100010419

KANSAS

Reno County

Hotel Stamey, 501 N Main, Hutchinson, SG100010420

Wyandotte County

Schmotz, Frank and Agnes, Farmstead, (Agriculture-Related Resources of Kansas MPS), 643 South 138th Street, Bonner Springs, MP100010423

Downtown Kansas City Kansas Historic District, located east of the Missouri River, on the western border of Kansas City, Kansas where Interstate 70 connects to the Downtown area through on/off ramps onto Minnesota Avenue and Washington Blvd., Kansas City, SG100010431

MAINE

Somerset County

Maine Women's Reformatory Maternity Hospital and Nursery, 26 Mary Street, Skowhegan, SG100010425

NEW YORK

Bronx County

Edenwald Houses, Generally bounded by Grenada Place, Baychester Avenue, East 225th Street, Laconia Avenue, and Schieffelin Avenue, Bronx, SG100010433

New York County

Manhattanville Houses, 3224-3250 Broadway, 545-555 West 126th Street. 1414-1470 Amsterdam Avenue, 556-578 West 131th Street. 500-520 West 133th Street, New York, SG100010432

PENNSYLVANIA

Wayne County

Bethany Presbyterian Church, 431 Wayne Street, Bethany, SG100010411

SOUTH CAROLINA

Darlington County

Darlington Theatre, 108 Pearl Street, Darlington, SG100010415

TEXAS

Hays County

Wimberley Downtown Square Historic District, Roughly bounded by Cypress Creek, Old Kyle Road, Henson Road, and Rio Bonlo Road, Wimberley, SG100010422

An additional documentation has been received for the following resource(s):

TENNESSEE

Franklin County

Zaugg Bank Barn (Additional Documentation), 831 Crawford Ln., Belvidere vicinity, AD73001764

Knox County

Lamar House Hotel (Additional Documentation), 803 Gay St., SW, Knoxville, AD75001763

Nomination(s) submitted by Federal Preservation Officers:

The State Historic Preservation Officer reviewed the following nomination(s) and responded to the Federal Preservation Officer within 45 days of receipt of the nomination(s) and supports listing the properties in the National Register of Historic Places.

PUERTO RICO

Rio Grande Municipality

Mt. Britton Tower, (New Deal Era Constructions in the Forest Reserves in Puerto Rico), 181 meters southeast of FS Road 10 at km. 1.3, Rio Grande vicinity, MP100010421

Authority: Section 60.13 of 36 CFR part 60.

Sherry A. Frear,
Chief, National Register of Historic Places/National Historic Landmarks Program.

[FR Doc. 2024-10494 Filed 5-13-24; 8:45 am]

BILLING CODE 4312-52-P